DEPARTMENT OF AGRICULTURE

Agricultural Marketing Service

[Document No. AMS-ST-20-0099]

Plant Variety Protection Board; Open Teleconference Meeting

AGENCY: Agricultural Marketing Service, USDA.

ACTION: Notice of meeting.

SUMMARY: Pursuant to the Federal Advisory Committee Act (FACA), the Agricultural Marketing Service (AMS) is announcing a meeting of the Plant Variety Protection Board (Board). The meeting is being held to discuss a variety of topics including, but not limited to, regulation updates, subcommittee activities, and program activities. The meeting is open to the public. This notice sets forth the schedule and location for the meeting.

DATES: Wednesday, March 31, 2021; 2 p.m. to 4 p.m.

ADDRESSES: The meeting will be conducted through teleconference.

FOR FURTHER INFORMATION CONTACT: Jeffery Haynes, Commissioner, Plant Variety Protection Office, USDA, AMS, Science and Technology Programs; Telephone: (202) 720-1066; or Email: Jeffery.Haynes@usda.gov.

SUPPLEMENTARY INFORMATION: Pursuant to the provisions of section 10(a) of the FACA (5 U.S.C., Appendix 2), this notice informs the public that the Plant Variety Protection Office (PVPO) is sponsoring a meeting of the Board on March 31, 2021. The Plant Variety Protection Act (PVPA) (7 U.S.C. 2321 et seq.) provides legal protection in the form of intellectual property rights to developers of new varieties of plants. A certificate of Plant Variety Protection is awarded to an owner of a crop variety after an examination shows that it is new, distinct from other varieties, genetically uniform, and stable through successive generations. The term of protection is 20 years for most crops and 25 years for trees, shrubs, and vines. The PVPA also provides for a statutory Board (7 U.S.C. 2327). The Board is composed of 14 individuals who are experts in various areas of development and represent the seed industry sector, academia, and government. The duties of the Board are to: (1) Advise the Secretary concerning the adoption of rules and regulations to facilitate the proper administration of the FACA; (2) provide advisory counsel to the Secretary on appeals concerning decisions on applications by the PVP Office and on requests for emergency public-interest compulsory licenses; and (3) advise the Secretary on any other matters under the Regulations and Rules of Practice and on all questions under Section 44 of the FACA, “Public Interest in Wide Usage” (7 U.S.C. 2404).

Meeting Agenda: The purpose of the meeting will be to discuss the PVPO 2021 program activities, the electronic application system, and the working group update. The Board plans to discuss program activities that encourage the development of new plant varieties and address appeals to the Secretary. The meeting will be open to the public. Those wishing to participate are encouraged to pre-register by March 12, 2021, by contacting Jeffery Haynes, acting commissioner, at Telephone: (202) 720-1066; or Email: Jeffery.Haynes@usda.gov.

Meeting Accommodation: The meeting at USDA will provide reasonable accommodation to individuals with disabilities where appropriate. If you need reasonable accommodation to participate in this public meeting, please notify Jeffery Haynes at: Telephone: (202) 720-1066; or Email: Jeffery.Haynes@usda.gov.

Determinations for reasonable accommodation will be made on a case-by-case basis. Minutes of the meeting will be available for public review 30 days following the meeting on the internet at http://www.ams.usda.gov/PVPO.

Bruce Summers,
Administrator, Agricultural Marketing Service.

[FR Doc. 2020-28176 Filed 12-21-20; 8:45 am]

BILLING CODE P